ENVIRONMENTAL PROTECTION AGENCY

[FRL-8453-1; Docket ID No. EPA-HQ-ORD-2007-0666]

Effects of Climate Change on Aquatic Invasive Species and Implications for Management and Research

AGENCY: Environmental Protection Agency (EPA).

ACTION: Notice of public comment period.

SUMMARY: EPA is announcing a 30-day public comment period for the draft document titled, “Effects of Climate Change on Aquatic Invasive Species and Implications for Management and Research” (EPA/600/R-07/084). The document was prepared by the National Center for Environmental Assessment within EPA's Office of Research and Development.

EPA is releasing this draft document solely for the purpose of pre-dissemination peer review under applicable information quality guidelines. This document has not been formally disseminated by EPA. It does not represent and should not be construed to represent any Agency policy or determination. EPA intends to consider any public comments submitted in accordance with this notice when revising the document.

DATES: The 30-day public comment period begins August 10, 2007, and ends September 10, 2007. Technical comments should be in writing and must be received by EPA by September 10, 2007.

ADDRESSES: The draft “Effects of Climate Change on Aquatic Invasive Species and Implications for Management and Research” is available primarily via the Internet on the National Center for Environmental Assessment's home page under the Recent Additions and the Data and Publications menus at http://www.epa.gov/ncea. A limited number of paper copies are available from the Technical Information Staff of the National Center for Environmental Assessment (NCEA-TIS). Please contact the Technical Information Staff by telephone at 202-564-3261 or by facsimile at 202-565-0050. If you are requesting a paper copy, please provide your name, your mailing address, and the draft document title, “Effects of Climate Change on Aquatic Invasive Species and Implications for Management and Research.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Britta Bierwagen, NCEA, telephone: 202-564-3388; facsimile: 202-565-0061; or e-mail: bierwagen.britta@epa.gov.

SUPPLEMENTARY INFORMATION:

I. Information About the Project/Document

This draft report addresses the potential effects of climate change on Aquatic Invasive Species (AIS) and consequences for their management, and describes apparent research gaps. The report is intended for managers and scientists working with AIS to provide them with information on the potential effects of climate change on AIS, strategies for adapting their management to accommodate these environmental changes, and highlight further research needs and gaps. The literature review that introduces this report shows that important progress has been made in identifying climate change effects on invasive species, but that our understanding of effects on specific species and interactions of other stressors needs to be improved. Following the literature review is an analysis of existing AIS management plans to assess the capacity of states to modify or adapt their management activities to account for climate change effects. The assessment shows that most states currently do not explicitly consider climate change in their aquatic invasive species management plans, but that many plans can incorporate new information on changing environmental conditions. Finally, this report compares information needs of AIS managers with current research to determine where gaps exist. Overall, more information and research are needed on many aspects of the effects of climate change on AIS.

II. How To Submit Technical Comments to the Docket at http://www.regulations.gov

Submit your comments, identified by Docket ID No. EPA-HQ-ORD 2007-0666, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, EPA West Building, Room 3334, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit one unbound original with pages numbered consecutively, and three copies of the comments. For attachments, provide an index, number pages consecutively with the comments, and submit an unbound original and three copies.

Instructions: Direct your comments to Docket ID No. EPA-HQ-ORD-2007-0666. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: August 2, 2007.
Peter W. Preuss,
Director, National Center for Environmental Assessment.

[FR Doc. E7-15674 Filed 8-9-07; 8:45 am]

BILLING CODE 6560-50-P